DEPARTMENT OF COMMERCE

U.S. Census Bureau

Proposed Information Collection; Comment Request; 2020 Census New Construction Program

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before June 26, 2018.

ADDRESSES: Direct all written comments to Jennifer Jessup, Departmental Paperwork Clearance Officer, Department of Commerce, Room 6616, 14th and Constitution Avenue NW, Washington, DC 20230 (or via the internet at PRAcomments@doc.gov). You may also submit comments, identified by Docket Number USBC-2018-0007, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe Portable Document Format (PDF) file formats only.

FOR FURTHER INFORMATION CONTACT: Requests for additional information or copies of the information collection instrument(s) and instructions should be directed to Robin A. Pennington, Decennial Census Management Division Program Management Office, U.S. Census Bureau, 4600 Silver Hill Road, Washington, DC 20233 or via email at Robin.A.Pennington@census.gov.

SUPPLEMENTARY INFORMATION:

I. Overview

The 2020 Census New Construction Program is one of the seven (7) voluntary geographic partnership programs that collect residential addresses to update the U.S. Census Bureau's Master Address File (MAF). To deliver questionnaires, locate residences, and tabulate statistics by localities, the Census Bureau must have accurate addresses and boundaries. The Census Bureau also uses its geographic database to link demographic data from surveys and the decennial census to locations and areas, such as cities, congressional and legislative districts, and counties.

The census block is the geographic building block for all Census Bureau geographic boundaries. Geographic programs such as the Redistricting Data Program update the boundaries of census blocks. The addresses collected in the 2020 Local Update of Census Addresses Operation (LUCA), the New Construction Program, and other geocoding processes place households in a specific census block.

While the geographic programs differ in requirements, time frame, and participants, the New Construction Program and the other geographic programs all follow the same basic process:

1. The Census Bureau invites eligible participants to the program.

2. If they elect to participate in the program, participants receive program materials, in this case, user guides, address templates, spatial data in PDF or shapefile format, and/or free, customized mapping software.

3. Participants review the materials and submit their addresses in the Census Bureau's predefined format.

4. The Census Bureau updates its address list with updates from participants.

5. The Census Bureau uses its address list to conduct the 2020 Census and tabulate statistics.

II. Abstract

The Census Bureau is requesting clearance to conduct the New Construction Program from February 2019 through December 2019. The purpose of the New Construction Program is to obtain city-style addresses for newly built housing units in blocks where census questionnaires or mailing packages are delivered and households are expected to use a self-response mode to complete the census.

The Census Bureau conducts LUCA and the New Construction Program as successive partnership operations to assure the completeness and accuracy of the Census Bureau's address list. These operations allow participating governments the opportunity to provide input to improve the Census Bureau's address list and to ensure accurate and complete enumeration of their communities. LUCA and the New Construction Program are complementary; however, there is no dependency on either program for participation in the other.

• LUCA participants who agree to receive the address list for their jurisdiction receive Title 13 protected materials. Participants review the address list and submit their validated or revised address list to the Census Bureau between spring and summer 2018.

• The Census Bureau processes and validates the LUCA updates using a combination of independent address sources, such as the United States Postal Service's list of delivery addresses or the 2020 Census Address Canvassing operation. Upon completion of the LUCA address validations by April of 2019, the Census Bureau provides address-level feedback to partners, allowing them to appeal any determination made by the Census Bureau to the Office of Management and Budget (OMB) LUCA Appeals Office.

• In spring 2019, the Census Bureau invites tribal, state, and local governments to participate in the New Construction Program. The Census Bureau will provide a list of governments eligible for participation in the New Construction Program by fall 2018. The Census Bureau confines the scope of the New Construction Program to the submission of addresses for newly constructed living quarters that began or will begin construction in the year leading up to the census. The Census Bureau does not provide Title 13 protected materials to the participants of the New Construction Program. Between June and August 2019, tribal, state, and local governments identify addresses for housing units, group quarters, and transitory locations for which construction began during or after March 2019 that are expected to be closed to the elements (final roof, windows, and doors) and potentially inhabitable by Census Day, April 1, 2020. No other updates, including streets or boundaries, will be accepted.

Through the New Construction Program, the Census Bureau improves the accuracy and completeness of the address list used to conduct the 2020 Census by utilizing the expertise of tribal, state, and local governments. The Census Address List Improvement Act of 1994 (Pub. L. 103-430) strengthened the Census Bureau's partnership capabilities with participating governments by expanding the methods the Census Bureau uses to collect address information from tribal, state, and local governments. The New Construction Program does not provide Title 13 protected addresses to participants, however, when participants submit address data for new housing to be included in the 2020 Census, the Census Bureau will protect the submitted data under Title 13, U.S.C. Section 9 provides for the confidential treatment of census-related information, including individual address and structure coordinates. Participation in the New Construction Program is voluntary.

The New Construction Program includes four phases:

1. New Construction Program Invitation Phase.

2. New Construction Program Participant Review Materials.

3. New Construction Program Address Updates.

4. Closeout.

New Construction Program Invitation Phase

The Census Bureau will mail the New Construction Program invitation letter and registration form in April 2019 to approximately 32,000 eligible participants that includes federally recognized American Indian tribal governments with reservations and/or off-reservation trust lands, states, and local governments. Based on the 2010 Census New Construction Program, the Census Bureau estimates 6,550 out of the 32,000 invited governments will participate. To participate, interested governments must respond to the invitation package by completing and returning the registration form to the Census Bureau by June 2019. Participants must also identify the format of the maps or spatial data that they wish to receive from the Census Bureau. The estimated time burden for this stage is one hour per participant.

New Construction Program Participant Review Materials

During summer 2019, the Census Bureau will deliver review materials to registered governments. Governments will receive the materials they selected on the registration form. Participating governments will be required to submit full address data for qualifying structures, including individual unit numbers for multiunit structures (e.g., Apt. 1, Apt. 2, Unit 1, and Unit 2), and geographic information such as the census tract and block numbers, or geographic coordinates.

The typical New Construction Program Participant Review Materials package will contain the following:

1. New Construction Program Quick Start Document.

2. New Construction Program User Guide.

3. New Construction Program Address List Template.

4. Geographic Update Partnership Software (GUPS).

5. New Construction Program Map PDFs (for geocoding purposes only).

6. New Construction Program spatial shapefiles (for geocoding purposes only).

Participants must submit their New Construction Program address list to the Census Bureau within 45 calendar days of receipt of the New Construction Program materials. The New Construction Program addresses must be returned in the Census Bureau's predefined format, and each address must be geocoded or assigned to the census tract and block in which it is located as shown on the New Construction Program PDF or digital (shapefile) maps. This stage will occur between August and September 2019. The average estimated time burden to add, review, and submit the New Construction Program address list to the Census Bureau is 47 hours per participant.

New Construction Program Address Updates

From September through November 2019, the Census Bureau will process all files received from participants. Files that are submitted in the proper format and with complete geocoding data are compared against the Census Bureau's census address list, extracted from the MAF, to check for any addresses already on the list. The Census Bureau will add the addresses to the census address list and MAF, if needed, and mail decennial census forms to any participant-supplied addresses that were not already in the census address list. The census enumeration process will determine the final housing unit status and population for each unit.

Closeout

The Census Bureau provides a closeout letter to governments that registered to participate and provided updates as well as a thank you letter to governments that provided updates. Closeout occurs between December 2019 and January 2020.

II. Method of Collection

The Census Bureau will collect the New Construction Program participants' contact information and product media preference when participants fill out the electronic or printed forms. To prepare and submit their list of new living quarters addresses, the New Construction Program participants can opt to receive:

• GUPS with Census Bureau spatial data.

• PDF maps.

Participants may also use their own software to create a computer-readable list of addresses in the prescribed format. Participants will use the Census Bureau provided maps or spatial data as a reference for assigning census tract and block codes (geocodes) for each submitted address.

III. Data

OMB Control Number: 0607-XXXX.

Form Number(s): NC_RForm_2020.

Type of Review: Regular submission.

Affected Public: Federally recognized tribes, states, local governments (counties, incorporated places, functioning minor civil divisions).

Estimated Number of Respondents:

Program Invitation: 32,000.

Participant Material Review: 6,550.

Estimated Time per Response:

Program Invitation: 1 hour.

Participant Material Review: 47 hours.

Estimated Total Hour Burden:

Program Invitation: 32,000 hours.

Participant Material Review: 307,850 hours.

Estimated Total Annual Burden Hours: 339,850 hours.

Stage of review | Estimated number of respondents | Estimated time per response (hours) | Total estimated hour burden
Program Invitation | 32,000 | 1 | 32,000
Participant Material Review | 6,550 | 47 | 307,850
Total |  |  | 339,850 hours.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13, U.S.C., Section 141(a).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-08964 Filed 4-26-18; 8:45 am]

BILLING CODE 3510-07-P